ENVIRONMENTAL PROTECTION AGENCY

[FRL-8000-7]

Science Advisory Board Staff Office; Notification of a Public Meeting of the Science Advisory Board

AGENCY: Environmental Protection Agency (EPA).

ACTION: Notice.

SUMMARY: The EPA Science Advisory Board (SAB) Staff Office announces a public meeting of the chartered SAB.

DATES: A public meeting of the EPA SAB will be held December 14, 2005 from 1 p.m. to approximately 4 p.m. eastern time.

ADDRESSES: The meeting will be held at the U.S. EPA Headquarters in the Ronald Reagan International Trade Center, 1200 Pennsylvania Ave., NW., Washington, DC.

FOR FURTHER INFORMATION CONTACT: Members of the public who wish to obtain further information concerning this meeting may contact Mr. Thomas O. Miller, Designated Federal Officer (DFO), by mail at EPA SAB Staff Office (1400F), U.S. EPA, 1200 Pennsylvania Avenue, NW., Washington, DC 20460; by telephone at (202) 343-9982; by fax at (202) 233-0643; or by e-mail at: miller.tom@epa.gov. General information concerning the SAB can be found on the SAB Web site at: http://www.epa.gov/sab. Technical Contact: For questions and information concerning the draft SAB report that is to be reviewed during the meeting, contact Dr. Holly Stallworth, U.S. EPA, SAB Staff Office by telephone at (202) 343-9867, fax at (202) 233-0643, or e-mail at stallworth.holly@epa.gov.

SUPPLEMENTARY INFORMATION: SAB: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: The purpose of this meeting will be to allow the Board to complete it Fiscal Year 2006 planning; to review at least one draft SAB Panel report, SAB Advisory on Superfund Benefits Analysis; and to receive a briefing by EPA representatives on recent activities associated with its March, 2004 staff paper, Risk Assessment Principles & Practices (EPA/100/B-04/001; available on the Web at http://www.epa.gov/osainter/pdfs/ratf-final.pdf).

Any other topics to be discussed will be reflected in the meeting agenda that will be available on the SAB Web site, http://www.epa.gov/sab (under “Meeting Agendas”) in advance of the meeting.

Availability of Meeting Materials: Materials in support of this meeting will be placed on the SAB Web site at http://www.epa.gov/sab/ in advance of this meeting or are available as noted above.

Procedures for Providing Public Comment: The SAB Staff Office accepts written public comments of any length, and will accommodate oral public comments whenever possible. The EPA SAB Staff Office expects the public statements presented at SAB meetings will not repeat previously-submitted oral or written statements. Oral Comments: Requests to provide oral comment must be in writing (e-mail or fax) and received by Mr. Miller no later than Wednesday, November 30, 2005 to reserve time on the December 14, 2005 meeting agenda. Opportunities for oral comments will be limited to five minutes per speaker. Written Comments: Written comments should be received in the SAB Staff Office by November 30, 2005 so that comments may be made available to the SAB for their consideration. Comments should be received by Mr. Miller in the following formats: one hard copy with original signature, and one electronic copy via e-mail (acceptable file format: Adobe Acrobat PDF, WordPerfect, Word, or Rich Text files (in IBM-PC/Windows 98/2000/XP format)). Those providing written comments and who attend the meeting are also asked to bring 35 copies of their comments for public distribution.

Meeting Access: For information on access or services for individuals with disabilities, please contact Mr. Thomas O. Miller at (202) 343-9982 or miller.tom@epa.gov. To request accommodation of a disability, please contact Mr. Miller, preferably at least ten days prior to the meeting, to give EPA as much time as possible to process your request. Such accommodation is required by sections 504 and 508 of the Rehabilitation Act of 1973, 29 U.S.C. 794 and 794d, EPA's implementing regulations, 40 CFR part 12, and the Federal standards for “Electronic and Information Technology Accessibility,” 36 CFR part 1194, which govern accessibility and accommodation in relation to EPA programs and activities, such as Federal Advisory Committee meetings.

Dated: November 16, 2005.
Vanessa Vu,
Director, EPA Science Advisory Board Staff Office.

[FR Doc. 05-23215 Filed 11-22-05; 8:45 am]

BILLING CODE 6560-50-P